DEPARTMENT OF COMMERCE

International Trade Administration

[C-533-063]

Certain Iron-metal Castings from India: Amended Final Results of Countervailing Duty Administrative Review Pursuant to Settlement

AGENCY: Import Administration, International Trade Administration, Department of Commerce.

ACTION: Notice of amendment to final results of countervailing duty administrative review.

SUMMARY: On December 6, 1996, the Department of Commerce (“the Department”) published in the Federal Register its final results of administrative review of the countervailing duty order on certain iron-metal castings from India for the period 1993 (61 FR 64676). Pursuant to a settlement agreement, the Department has recalculated the countervailing duty rates. The final countervailing duty rates for this review period are listed below in the Final Results of Review section of this notice.

EFFECTIVE DATE: May 16, 2002.

FOR FURTHER INFORMATION CONTACT: Robert Copyak, Office of AD/CVD Enforcement VI, Group II, Import Administration, International Trade Administration, U.S. Department of Commerce, 14th Street and Constitution Avenue, N.W. Washington, D.C. 20230; telephone: (202) 482-2786.

SUPPLEMENTARY INFORMATION: On December 6, 1996, the Department published the final results of its administrative review of the countervailing duty order on certain iron-metal castings from India for the period January 1, 1993 through December 31, 1993. See Final Results of Countervailing Duty Administrative Review: Certain Iron-Metal Castings from India, 61 FR 64687 (1993 Iron-metal Castings). Subsequently, respondents challenged the final results before the Court of International Trade (CIT). The primary complaint of their challenge involved the calculation of the program rates for the subsidies provided under section 80 HHC of India's Income Tax Act.

Under section 80HHC of India's Income Tax Act, exporters of iron-metal castings are eligible to claim tax exemptions based on their export profits. In 1993 Iron-Metal Castings, the Department calculated these subsidies without adjusting for other subsidies received under India's International Price Reimbursement Scheme (IPRS). As section 80HHC was also the subject of litigation for the review period 1991 in Kajaria Iron Casting Pvt. v. United States, Consolidated Court No. 95-09-01240 (Kajaria), litigation for the review period 1993 was stayed pending finalization of Kajaria. After the CIT affirmed the Department's remand determination for the 1991 administrative review (see Kajaria, slip op. 2001-5 (CIT Jan. 24, 2001)), the Department published a notice of amended final results in accordance with that opinion. See Certain Iron-metal Castings from India: Amended Final Results of Countervailing Duty Administrative Review In Accordance With Decision Upon Remand (66 FR 24115, May 11, 2001). In lieu of pursuing further litigation with respect to the administrative review of the review period 1993, the parties have entered into a settlement agreement. The parties agreed to countervailing duty rates that were calculated based on the methodology approved by the CIT in Kajaria. On March 8, 2002, the CIT approved the settlement agreement and dismissed the lawsuit. See Siko Exports v. United States, Consol. Ct. No., 97-01-00005 (CIT Mar. 8, 2002) (Order of Dismissal).

Final Results of Review

Pursuant to the settlement agreement, we recalculated the company-specific and all-other subsidy rates for the period January 1, 1993, through December 31, 1993. The amended final countervailing duty rates are:

Manufacturer/Exporter | Revised Rates
Delta | 0.00%
Super Iron Foundry | de minimis
All Others | 4.60%

The Department will instruct the U.S. Customs Service (Customs) to assess countervailing duties on all appropriate entries. The Department will issue liquidation instructions directly to Customs.

This amendment to the final results of countervailing duty administrative review notice is in accordance with sections 751(a)(1) and 777(i) of the Tariff Act, as amended, (19 U.S.C. 1675(a)(1) and 1677f(i)), and 19 CFR 351.221(b)(5).

Dated: May 7, 2002
Joseph A. Spetrini,
Acting Assistant Secretary for Import Administration.

[FR Doc. 02-12292 Filed 5-15-02; 8:45 am]

BILLING CODE 3510-DS-S